DEPARTMENT OF COMMERCE

National Oceanic and Atmospheric Administration

50 CFR Part 660

[Docket No. 130114034-3422-02]

RIN 0648-XD016

Magnuson-Stevens Act Provisions; Fisheries Off West Coast States; Pacific Coast Groundfish Fishery; Pacific Whiting and Non-Whiting Allocations; Pacific Whiting Seasons

AGENCY: National Marine Fisheries Service (NMFS), National Oceanic and Atmospheric Administration (NOAA), Commerce.

ACTION: Temporary rule; reapportionment of tribal whiting allocation.

SUMMARY: This document announces the reapportionment of 30,000 mt of Pacific whiting from the tribal allocation to the non-tribal commercial fishery allocations. This action is intended to allow for full utilization of the resource.

DATES: The rule is effective December 18, 2013, until December 31, 2013, unless modified, superseded or rescinded. The reapportionment of whiting is applicable September 18, 2013 until December 31, 2013. Comments will be accepted through January 2, 2014.

ADDRESSES: You may submit comments, identified by “NOAA-NMFS-2013-0013” by any of the following methods:

• Electronic Submissions: Submit all electronic public comments via the Federal eRulemaking Portal. Go to www.regulations.gov/#!docketDetail;D=NOAA-NMFS-2013-0013, click the “Comment Now!” icon, complete the required fields, and enter or attach your comments.

• Fax: 206-526-6736, Attn: Kevin C. Duffy

• Email comments directly to NMFS, Northwest Region at: Whitingreapportionment@noaa.gov

• Mail: William W. Stelle, Jr., Regional Administrator, Northwest Region, NMFS, 7600 Sand Point Way NE., Seattle, WA 98115-0070, Attn: Kevin C. Duffy.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Kevin C. Duffy (Northwest Region, NMFS), phone: 206-526-4743, fax: 206-526-6736 and email: kevin.duffy@noaa.gov.

SUPPLEMENTARY INFORMATION:

Electronic Access

This document is accessible via the Internet at the Office of the Federal Register's Web site at http://www.gpo.gov/fdsys/search/home.action. Background information and documents are available at the Pacific Fishery Management Council's Web site at http://www.pcouncil.org/.

Background

This document announces the reapportionment of 30,000 mt of Pacific whiting from the tribal allocation to the non-tribal commercial sectors on September 18, 2013. This action is authorized by regulations implementing the Pacific Coast Groundfish Fishery Management Plan (FMP), which governs the groundfish fishery off Washington, Oregon, and California. Regulations at 50 CFR 660.131(h) contain provisions that allow the Regional Administrator to make Pacific whiting tribal allocation specified at § 660.50 that will not be harvested by the tribal fisheries available for harvest to other sectors of the trawl fishery. For 2013 the Washington Coast treaty tribes were allocated 63,205 mt of Pacific whiting. The best available information through September 16, 2013 indicated that at least 30,000 mt of the tribal allocation will not be harvested by December 31, 2013. To allow for full utilization the resource, NMFS reapportioned 30,000 mt to the shorebased IFQ, catcher/processor and mothership sectors in proportion to each sector's original allocation on September 18, 2013. Reapportioning this amount is not expected to limit tribal harvest opportunities for the remainder of the year.

The revised Pacific whiting allocations for 2013 are: Tribal 33,205 mt, catcher/processor 79,573 mt; mothership 56,170 mt: and shorebased IFQ 98,297 mt. Emails sent directly to fishing businesses and postings on the Northwest Region's internet site were used to provide actual notice to the affected fishers.

Classification

The Assistant Administrator for Fisheries, NOAA (AA), finds that good cause exists for this notification to be issued without affording prior notice and opportunity for public comment pursuant to 5 U.S.C. 553(b)(B) because such notification would be impracticable and contrary to the public interest. As previously noted, actual notice of the reapportionment was provided to fishers. Prior notice and opportunity for public comment was impracticable because NMFS had insufficient time to provide prior notice and the opportunity for public comment between the time the information about the progress of the fishery needed to make this determination became available and the time at which fishery modifications had to be implemented in order to allow fishers access to the available fish during the remainder of the fishing season. Reapportioning as quickly as possible was necessary to allow access to the available fish prior to the onset of weather conditions that would make fishing unsafe. For the same reasons, the AA also finds good cause to waive the 30-day delay in effectiveness required under 5 U.S.C. 553(d)(3).

These actions are authorized by 50 CFR 660.55 (i), 660.60(d) and 660.131(h) and are exempt from review under Executive Order 12866.

Authority: 16 U.S.C. 1801 et seq.

Dated: December 12, 2013.
Sean F. Corson,
Acting Deputy Director, Office of Sustainable Fisheries, National Marine Fisheries Service.

[FR Doc. 2013-30031 Filed 12-17-13; 8:45 am]

BILLING CODE 3510-22-P